NATIONAL SCIENCE FOUNDATION

Advisory Committee for Biological Sciences: Committee of Visitors; Notice of Meeting

In accordance with the Federal Advisory Committee Act (Pub. L. 92-463, as amended), the National Science Foundation announces the following meeting.

Name: Advisory Committee for Biological Sciences (1110).

Date and Time: July 19-21, 2000.

Place: Room 630, National Science Foundation, 4201 Wilson Boulevard, Arlington, VA 22230.

Type of Meeting: Part-open.

Contact Person: Dr. Samuel Scheiner, Division of Environmental Biology, Room 635, National Science Foundation, 4201 Wilson Boulevard, Arlington, VA 22230. Telephone: (703) 306-1480.

Purpose of Meeting: To provide advice and recommendations concerning proposals submitted to NSF for financial support

Agenda: Closed Session: July 19, 2000, 8:30 a.m. to 5 p.m.; July 20, 2000, 8:30 a.m.-1 p.m. and 3-5 p.m.; July 21 9:30 a.m.-5 p.m.; review and evaluate proposals as part of the selection process for awards.

Open Session: July 20, 2000, 2-3 p.m. discussion on research trends, opportunities and assessment procedures in the Systematic and Population Biology Cluster.

Reason for Closing: The proposals being reviewed include information of a proprietary or confidential nature, including technical information; financial data, such as salaries; and personnel information concerning individuals associated with the proposals. These matters are exempt under 5 U.S.C. 552b. (c)(4) and (6) of the Government in the Sunshine Act.

Dated: May 2, 2000.
Karen J. York,
Committee Management Officer.

[FR Doc. 00-11276 Filed 5-4-00; 8:45 am]

BILLING CODE 7555-01-M